DEPARTMENT OF TRANSPORTATION

Federal Aviation Administration

[Docket No. FAA-2025-1193]

Notice of Proposed Order Designating U.S. Aviation Safety Team (USAST) and Aerospace National Safety Issue Registry (ANSIR) Information as Protected From Public Disclosure

AGENCY: Federal Aviation Administration (FAA), Department of Transportation.

ACTION: Notice; request for comments.

SUMMARY: The Federal Aviation Administration (FAA) is proposing to designate safety and security information, reports, data, and work products provided to the FAA from the U.S. Aviation Safety Team (USAST) and its membership as protected from public disclosure. The FAA is authorized to protect voluntarily provided safety and security information from disclosure. This proposed designation is intended to encourage the sharing of information between the FAA and the aviation industry during the discovery of system-level safety issues in the National Airspace System (NAS) and the development and implementation of safety enhancements to address these issues. The voluntarily provided information described in this proposed designation is critical to the FAA's safety mission because it supports a proactive and collaborative, data-driven strategy to reduce the risk of fatal and non-fatal accidents.

DATES: Send comments on or before September 2, 2025.

ADDRESSES: Send comments identified by docket number FAA-2025-1193 using any of the following methods:

• Federal eRulemaking Portal: Go to http://www.regulations.gov and follow the online instructions for sending your comments electronically.

• Mail: Send comments to Docket Operations, M-30; U.S. Department of Transportation, 1200 New Jersey Avenue SE, Room W12-140, West Building Ground Floor, Washington, DC 20590-0001.

• Hand Delivery or Courier: Take comments to Docket Operations in Room W12-140 of the West Building Ground Floor at 1200 New Jersey Avenue SE, Washington, DC 20590-0001, between 9 a.m. and 5 p.m., Monday through Friday, except Federal holidays.

• Fax: Fax comments to Docket Operations at (202) 493-2251.

FOR FURTHER INFORMATION CONTACT: Christopher Gomes, Operational Safety Analyst, Office of Accident Investigation and Prevention Federal Aviation Administration, 800 Independence Avenue SW, Washington, DC 20591. Email: christopher.gomes@faa.gov. Telephone: 202-267-4920.

Background

Under 49 U.S.C. 40123, certain voluntarily provided safety and security information is protected from disclosure to encourage persons to provide the information to the FAA. The FAA's rules for implementing 49 U.S.C. 40123 are in Title 14 of the Code of Federal Regulations (14 CFR) part 193. The FAA must first issue an order specifying why the agency finds that the information should be protected in accordance with that section. If the FAA Administrator issues an order designating information as protected under section 40123, that information will not be disclosed under the Freedom of Information Act (5 U.S.C. 552) or other laws except as provided in part 193, and the order designating the information as protected. This proposed order to protect the USAST information from disclosure is issued under 14 CFR 193.11, which sets out the notice procedure for designating information as protected.

Applicability

The final order, based on this proposal, will be applicable to any FAA organization that receives information covered under this designation from a chartered stakeholder, attendee, representative, or participant of the USAST, aviation community safety teams, or working groups chartered by the USAST. The final order will also apply to any other government agency that receives such information from the FAA. For any other government agency to receive USAST information protected from disclosure under this designation from the FAA, the agency receiving the protected information must first comply with the procedure set forth in 14 CFR 193.7(e) and this order.

Description of the Proposed Safety Information To Be Protected

The FAA proposes to designate certain system-level safety issue information voluntarily provided through the USAST as protected from disclosure. The USAST is a collaborative leadership body representing U.S. industry and government stakeholders across the aviation system. It evolved from the legacy Aviation Safety Information and Analysis Sharing (ASIAS) Executive Board (AEB) to bring together stakeholders from across aviation communities and offer a new approach and tools for addressing systemic aviation safety issues. Stakeholders encompass (but are not limited to) the FAA, air navigation service providers, air carriers and operators, crewmembers, aerospace manufacturers, aerospace domain associations (i.e., labor unions, standards bodies, etc.), and aviation community safety teams.

Aviation community safety teams are chartered public-private partnerships that work to improve aviation safety by collectively analyzing aviation safety data to identify emerging issues and develop strategies to address and prioritize safety issues. Participation in an aviation community safety team is entirely voluntary. These teams rely on the voluntary submission of proprietary industry safety data through the USAST and Aerospace National Safety Issue Registry (ANSIR) to develop informed mitigations/communications appropriate to their communities. Aviation community safety teams develop voluntary safety enhancements as intervention strategies to prevent or mitigate safety issues. Existing aviation community safety teams include the Commercial Aviation Safety Team (CAST), General Aviation Joint Safety Committee (GAJSC), and U.S. Helicopter Safety Team (USHST) and their working groups.

The USAST is led by two executive-level chairpersons: one selected from the aviation industry and one from the U.S. Government (an FAA employee selected by the FAA Administrator). The core function of the USAST is to encourage its membership to unite voluntarily to improve aviation safety. This is done through voluntary participation in the operation of a system-level safety issue lifecycle analysis to address potential systemic safety issues identified through the USAST. The USAST's system-level safety issue lifecycle relies on both governance and the ANSIR for success.

A system-level safety issue is anything that involves a potential hazard that affects one or more segments of the aviation industry or affects multiple entities within a single segment of the industry. As part of the system-level safety issue lifecycle, the USAST relies on voluntary identification and submission of safety issues from the aviation industry. If appropriate, the safety issue is then validated and assigned to an aviation community safety team for safety risk management and mitigation development. The USAST may also conduct safety promotion activities with the aviation industry to communicate validated safety issues and/or safety enhancements to the appropriate aviation community safety team for awareness.

The ANSIR tool is the central repository where information regarding systemic safety or security issues is collected voluntarily from the aviation industry and available in a standardized format. The USAST is responsible for the management and monitoring of the ANSIR. The ANSIR is used throughout the lifecycle of the safety issue as analyses and assessments are conducted and mitigations are developed, implemented, tracked, and monitored to ensure the achievement of safety targets. Contributions of safety issue information into the ANSIR are voluntarily provided by industry participants with the collective understanding that the information will not be disclosed unless validated and approved by the USAST. The FAA and aviation community safety teams receive voluntarily provided aviation safety issues as chartered stakeholders of the USAST, participants of the system-level safety lifecycle, and users of the ANSIR.

Supporting the ANSIR, USAST governance of the system-level safety issue lifecycle requires the documentation of safety issue information across a variety of formats and at stages where the issue may not be fully validated. These formats may include USAST meeting agendas, meeting minutes, presentations, inputs/outputs of the ANSIR tool, and reports or other analyses. The information provided in these documents is voluntarily provided to the USAST. Release of this information before a safety issue is validated and approved by the USAST would jeopardize industry participation and reduce the willingness of the aviation industry to submit safety issues as part of the USAST.

The ANSIR and USAST processes fully rely on confidence that voluntarily submitted safety and security information from any of the USAST chartered stakeholders or representatives is protected from disclosure, thus encouraging them to voluntarily report potential safety issues. Protection of voluntarily provided USAST and ANSIR system-level safety issue information allows the USAST to appropriately assess the information without the potential negative effects from involuntary release of the information before validation has occurred.

The voluntary contributions from aviation stakeholders to the USAST and ANSIR are core components to the success of these teams and programs. Without certain protections for USAST and ANSIR information, reports, data, and work products, the U.S. Government may be unable to work effectively with the aviation industry to develop safety enhancements for systemic safety issues.

Summary of the Protected Safety Information

A. Who may participate?

Entities eligible for participation include chartered stakeholders, attendees, and representatives of the USAST, along with aviation community safety teams and working groups chartered by the USAST. This encompasses air navigation service providers, air carriers and operators, crewmembers, aerospace industry manufacturers, aviation community safety teams, and aerospace industry associations or organizations (i.e., labor unions, standards bodies, etc.).

B. What voluntarily provided information will be protected from disclosure?

1. All information, reports, data, and work products conducted through the USAST's system-level safety issue lifecycle governance in support of the validation and verification of systemic aviation safety and security issues.

2. All information voluntarily provided and documented before, at, or after any USAST meeting or event that covers systemic aviation safety and security issues, emerging threats, changing risks, or accident precursors unless validated and approved by the USAST and part of a USAST approved safety promotion activity.

3. All safety or security issue information submitted to and coordinated within the ANSIR. This includes but is not limited to, titles of the issues, descriptions, submitter information, supporting data, and all ANSIR user feedback surrounding the safety or security issue until the issue is validated and approved by the USAST and part of a USAST approved safety promotion activity.

4. All information, reports, data, and work products conducted through the USAST work groups that relate to the preliminary analysis of safety or security issues before obtaining USAST approval and part of a USAST approved safety promotion activity. This also includes all information, reports, data, and work products from the USAST work group findings during routine monitoring of aviation safety data for known risks, emerging risks, and anomalies.

5. All information, reports, data, and work products conducted through any preliminary safety risk management processes done by any of the USAST chartered stakeholders, representatives, or communities in response to a safety issue submitted to the USAST and prior to USAST approval of the issue for further action. For a safety issue, this includes the identification of hazards, analysis of risk, assessment of risk, development of risk controls, and documentation of safety risk acceptance before the safety issue and risk management processes are complete and approved by the FAA.

6. All information related to identifying if a USAST chartered stakeholder, attendee, representative, operator, or industry community has implemented a safety enhancement recommended by USAST that is reported to the FAA.

7. All information related to the level of safety enhancement implementation, the methods used to implement, and the results of implementation provided by a USAST chartered stakeholder, representative, operator, or industry community that is reported to the FAA.

8. Reports, agendas, minutes, and other documents prepared by the FAA, any USAST chartered stakeholder, attendee, representative, or aviation community safety team, or any team or workgroup established by or associated with the USAST that is based on information related to the implementation of safety enhancements.

9. Any information voluntarily provided by the eligible entities related to the implementation of safety enhancements and/or the effectiveness of these safety enhancements in eliminating or mitigating underlying safety hazards.

C. How can persons participate?

Eligible entities that comprise the USAST can participate by voluntarily providing aviation system-level safety or security issue data to the USAST, its respective safety teams, or ANSIR as part of the normal operating processes or on an ad-hoc basis.

D. What is the duration of this protection?

Information provided to the USAST and ANSIR as part of its ongoing processes in support of the identification of systemic safety issues and implementation of safety enhancements will be protected indefinitely.

Summary of Proposed Findings

The FAA is proposing to designate information received from eligible entities related to potential system-level safety issues and safety enhancements as protected under 49 U.S.C. 40123 and 14 CFR 193.7 based on the following findings:

1. Summary of Why FAA Finds That the Information Will Be Provided Voluntarily

The core principle of USAST and the ANSIR is voluntary participation. Those who are chartered stakeholders, attendees, representatives, or communities within the USAST, who take part in the safety analysis, determine the feasibility of safety enhancements, and agree to implement the enhancements do so voluntarily. Contributions of safety issue information into the ANSIR are voluntarily provided by the aviation industry with the collective understanding that the information will not be disclosed and that it will be used to collectively improve aviation safety by all USAST's voluntary participants. The FAA and aviation community safety teams receive the voluntarily provided aviation safety issues as chartered stakeholders of the USAST, participants of the system-level safety lifecycle, and users of the ANSIR.

2. Description of the Type of Information That May Be Voluntarily Provided Under the Program and Why the FAA Finds That the Information is Safety or Security Related

USAST participants voluntarily provide safety or security related information to the ANSIR that identifies possible system-level issues in the NAS. A system-level safety or security issue is anything that involves a potential hazard that affects one or more segments of the aviation industry or affects multiple entities within a single segment of the industry. As part of the USAST's system-level safety issue lifecycle, the USAST relies on identification and voluntary submission of safety issues from the industry. The issue is subsequently validated and assigned to an aviation community safety team for safety risk management and mitigation or safety enhancement development. Issues submitted and pending validation require protection from disclosure; however, this designation will not offer protection from disclosure for issues submitted that are determined not to be safety or security related. USAST participants also voluntarily provide information about safety enhancements implementation, the method of implementation, the process to evaluate the implementation, and any other information, such as best practices related to the implementation of safety enhancements. The FAA finds that the information is safety or security related because it contributes towards achieving and measuring USAST aviation safety goals (e.g. reducing the risk of fatal and non-fatal accidents.) by using voluntary, proactive, data-driven strategies to get results and develop collaborative safety interventions.

3. Summary of Why the FAA Finds That the Disclosure of the Information Would Inhibit Persons From Voluntarily Providing That Type of Information

The ANSIR and USAST processes fully rely on confidence that voluntarily submitted safety and security information from any of the USAST chartered stakeholders, attendees, or representatives is protected from disclosure. The protection provided by this designation will encourage them to voluntarily report potential safety issues without fear of uncontrolled and involuntary public release of this information. Eligible entities part of the USAST will be reluctant to share sensitive safety information with the FAA if it might be subject to public disclosure.

Release of the voluntarily provided information to the public may be incomplete, unreliable, or sensitive. The release of this information may adversely affect the USAST participants and the aviation industry, discouraging further voluntary information sharing. Protecting system-level safety issue information voluntarily provided through the USAST governance and ANSIR tool allows the FAA and USAST to appropriately assess the information and work with the aviation industry to validate and verify the issue (along with creating safety interventions).

Participation in the USAST and ANSIR is not required by regulation. The U.S. aviation industry also has wide discretion to choose if it will implement safety enhancements because such enhancements are not required by regulation. There is great concern that if the information listed above is disclosed, there is the potential for the information to be used for purposes other than improving aviation safety and improving aviation safety is the primary reason for establishing the USAST.

4. Summary of Why Receiving the Information Aids in Fulfilling the FAA's Safety and Security Responsibilities

The FAA finds that receipt of safety issue information through the USAST and ANSIR aids in fulfilling the FAA's safety responsibilities because it provides early identification of potential hazards in the NAS, allowing the FAA to proactively address risk in the system. This offers the FAA a unique opportunity to work with the aviation industry to avoid incidents or accidents. The USAST and ANSIR can produce safety-related information that may not be available from any other source and may improve the FAA's ability to modify procedures, policies, and regulations to improve aviation safety.

The FAA and DOT's safety goals, as highlighted in the FAA's Flight Plan 2021, include “identifying use cases for predictive analytics and supporting technologies to implement enterprise-level solutions” along with “defining an enterprise-level process utilizing data for determining and re-evaluating safety measures for a 21st century NAS”. With the information provided to the FAA through the USAST, the FAA and industry will be able to identify systemic aviation safety issues, emerging threats, changing risks, and accident precursors effectively and proactively and determine whether safety enhancements to address these issues are effective. This information supports the FAA's safety goals around the proactive identification of systemic safety or security issues in the NAS and the establishment of an enterprise-level process that brings data and people together voluntarily to improve aviation safety.

5. Summary of Why Withholding the Information From Disclosure Is Consistent With FAA Safety Responsibilities and When Withholding the Information From Disclosure Would Not Be Consistent With FAA Safety Responsibilities as Described in 14 CFR 193.9

Withholding such information from disclosure is consistent with the FAA's safety responsibilities because without voluntary contributions of safety or security issues from the aviation industry and information on the implementation of the safety enhancements, the FAA and USAST will not be able to determine the effectiveness of safety enhancements or proactively discover systemic safety issues before they cause harm within the NAS.

Unless the FAA can provide assurance that certain USAST and ANSIR information will not be disclosed, the FAA and USAST may not receive information that would otherwise be used to improve aviation safety. Without this information, the FAA and USAST will be limited in their ability to understand the possible system-level safety issues that the aviation industry may be experiencing and make the changes necessary to address those issues before any accidents or incidents occur. Withholding the information encourages entities to voluntarily provide it because they know it is protected once the FAA receives it. In turn, the more information the FAA receives, the more effectively it can exercise aviation safety oversight and analyze systemic safety and security issues.

Withholding the information from disclosure would not be consistent with FAA safety responsibilities as described in 14 CFR 193.9 when reports or other data involve possible criminal activity, substance abuse, improper use of controlled substances and/or alcohol, intentional falsification, reckless conduct (i.e., an act (or failure to act) demonstrating a gross disregard for, or deliberate indifference to, safety or a safety standard), intentional conduct (i.e., an act (or failure to act) while knowing that such conduct is contrary to a regulation or statute, or is otherwise prohibited), or generally demonstrate a lack of care, judgment, or responsibility. The protection described in this proposed designation will not apply to information falling into these instances.

The FAA may disclose de-identified information, as set forth in part 193, to explain the need for changes in FAA policies and regulations. As part of the USAST's safety promotion activities, the FAA may (in consultation with the USAST) release information as set forth in part 193 to communicate its work with aviation safety communities or other third parties involved with the USAST to address system-level safety issues. In either of these situations, the FAA may release de-identified, aggregate, and summarized information derived from information reported about the implementation of USAST safety enhancements, information provided within the ANSIR, or information provided through the USAST.

The FAA will give information to USAST participants who are government agencies only if each agency meets the requirements in 14 CFR 193.7(e). The FAA will give information to USAST participants who are third parties only if the third party provides adequate assurance in writing that it has a safety or security need for the information, it will protect the information from further release, and it will limit access to those with a need to know to carry out safety responsibilities.

6. Summary of How the FAA Will Distinguish Information Protected Under Part 193 From Information the FAA Receives From Other Sources

Information received by the FAA from eligible entities concerning safety and security issues identified through the USAST and ANSIR will be clearly labeled as follows to be protected under this designation: WARNING: This information may be protected from disclosure under 49 U.S Code (U.S.C) Section 40123 and 14 Code of Federal Regulations (CFR) Part 193.

In this way, the information protected under this order will be easily identified and distinguished from information the FAA receives from other sources.

Proposed Designation

The FAA hereby proposes to designate the above-described information submitted as part of the USAST's system-level safety issue lifecycle and safety enhancements to be protected under 49 U.S.C. 40123 and 14 CFR part 193.

Issued in Washington, DC, on July 30, 2025.
Genoveva Martin,
Chief of Staff, Office of Accident Investigation and Prevention, AVP-1.

[FR Doc. 2025-14594 Filed 7-31-25; 8:45 am]

BILLING CODE 4910-13-P